DEPARTMENT OF THE INTERIOR

National Park Service

[NPS-WASO-NAGPRA-11009; 2200-1100-665]

Notice of Inventory Completion: Brigham Young University, Museum of Peoples and Cultures, Provo, UT; Correction

AGENCY: National Park Service, Interior.

ACTION: Notice; correction.

Notice is here given in accordance with the Native American Graves Protection and Repatriation Act (NAGPRA), 25 U.S.C. 3003, of the completion of an inventory of human remains and associated funerary objects in the possession of the Brigham Young University Museum of Peoples and Cultures, Provo, UT. The human remains and associated funerary objects were removed from San Juan County, UT.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register (75 FR 58433-58435, September 24, 2010). A recent re-inventory of culturally unidentifiable human remains led to the recognition of culturally identifiable human remains from Iceberg Canyon near Lake Powell, San Juan County, UT.

In the Federal Register (75 FR 58433-58435, September 24, 2010), paragraph seven is corrected by substituting the following paragraph:

At an unknown date, human remains representing a minimum of six individuals were removed from an unknown location in Iceberg Canyon near Lake Powell, San Juan County, UT, by private individuals. No further geographical information is known. In 1971, the human remains were donated to the Museum of Peoples and Cultures and were accessioned (Catalog Nos. 1971.11.5.0 and 1971.19.1.0). No known individuals were identified. The two associated funerary objects are one lot of clothing fragments and one piece of petrified wood.

In the Federal Register (75 FR 58433-58435, September 24, 2010), paragraph 23, sentences one and two are corrected by substituting the following sentences:

Officials of the Museum of Peoples and Cultures have determined that, pursuant to 25 U.S.C. 3001(9), the human remains described above represent the physical remains of 39 individuals of Native American ancestry. Officials of the Museum of Peoples and Cultures also have determined that pursuant to 25 U.S.C. 3001(3)(A), the 139 objects described above are reasonably believed to have been placed with or near individual human remains at the time of death or later as part of the death rite or ceremony.

Additional Requestors and Disposition

Representatives of any other Indian tribe that believes itself to be culturally affiliated with the human remains and associated funerary objects should contact Paul Stavast, Museum of Peoples and Cultures, Brigham Young University, 105 Allen Hall, Provo, UT 84602-3600, telephone (801) 422-0018, before September 27, 2012. Repatriation of the human remains and associated funerary objects to the Hopi Tribe of Arizona; Kaibab Band of Paiute Indians of the Kaibab Indian Reservation, Arizona; Kewa Pueblo, New Mexico (formerly the Pueblo of Santo Domingo); Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; and the Zuni Tribe of the Zuni Reservation, New Mexico (hereafter referred to as “The Tribes”), may proceed after that date if no additional claimants come forward.

The Museum of Peoples and Cultures is responsible for notifying The Tribes that this notice has been published.

Dated: August 3, 2012.
Melanie O'Brien,
Acting Manager, National NAGPRA Program.

[FR Doc. 2012-20938 Filed 8-27-12; 8:45 am]

BILLING CODE 4312-50-P